DEPARTMENT OF ENERGY

Federal Energy Regulatory Commission

Combined Notice of Filings #1

August 23, 2006.

Take notice that the Commission received the following electric rate filings:

Docket Numbers: ER06-1221-002.

Applicants: Parkview AMC Energy, LLC.

Description: Parkview AMC Energy, LLC submits its Electric Rate Tariff, Original Volume No. 1, to become effective as of 7/5/06.

Filed Date: 08/16/2006.

Accession Number: 20060818-0123.

Comment Date: 5 p.m. Eastern Time on Tuesday, August 29, 2006.

Docket Numbers: ER06-1332-001.

Applicants: Pacific Gas & Electric Company.

Description: Pacific Gas and Electric Company submits its First Revised Rate Schedules FERC 207 & FERC 211 to the Reliability Must-Run Service Agreement with California Independent System Operator Corporation.

Filed Date: 08/21/2006.

Accession Number: 20060823-0006.

Comment Date: 5 p.m. Eastern Time on Monday, September 11, 2006.

Docket Numbers: ER06-1377-000.

Applicants: Rochester Gas and Electric Corporation.

Description: Rochester Gas and Electric Corp submits its Second Amendment to the Interconnection Agreement with RE Ginna Nuclear Power Plant, LLC for the Robert E Ginna Nuclear Station in the Town of Ontario, County of Wayne.

Filed Date: 08/17/2006.

Accession Number: 20060822-0101.

Comment Date: 5 p.m. Eastern Time on Thursday, September 07, 2006.

Docket Numbers: ER06-1378-000.

Applicants: Midwest Independent Transmission System Operator, Inc.

Description: Midwest Independent Transmission System Operator, Inc. submits a Facilities Construction Agreement with Rugby Wind, LLC et al.

Filed Date: 08/18/2006.

Accession Number: 20060821-0186.

Comment Date: 5 p.m. Eastern Time on Friday, September 08, 2006.

Docket Numbers: ER06-1379-000.

Applicants: Midwest Independent Transmission System Operator, Inc.

Description: Midwest Independent Transmission System Operator, Inc. submits a Notice of Cancellation of various Transmission Service Agreements et al. and also submit an errata to this filing.

Filed Date: 08/18/2006.

Accession Number: 20060821-0185.

Comment Date: 5 p.m. Eastern Time on Friday, September 08, 2006.

Docket Numbers: ER06-1380-000.

Applicants: Southern California Edison Company.

Description: Southern California Edison Co. submits its revised rate sheets to the Interconnection Facilities Agreement, Service Agreement 96, FERC Electric Tariff, First Revised Volume 5 with the City of Corona.

Filed Date: 08/18/2006.

Accession Number: 20060821-0184.

Comment Date: 5 p.m. Eastern Time on Friday, September 08, 2006.

Docket Numbers: ER06-1381-000.

Applicants: Southern California Edison Company.

Description: Southern California Edison Co. submits revised rate sheets to the Interconnection Facilities Agreement Service Agreement 106, FERC Electric Tariff, First Revised Volume 5 with the City of Moreno Valley.

Filed Date: 08/18/2006.

Accession Number: 20060821-0183.

Comment Date: 5 p.m. Eastern Time on Friday, September 08, 2006.

Docket Numbers: ER06-1382-000; ER05-522-000.

Applicants: Bluegrass Generation Company, L.L.C.

Description: Blue Grass Generation Co., LLC submits its revised rate schedule for providing cost-based Reactive Supply and Voltage Control from Generation Sources Service pursuant to Section 205 of the Federal Power Act.

Filed Date: 08/18/2006.

Accession Number: 20060821-0182.

Comment Date: 5 p.m. Eastern Time on Friday, September 08, 2006.

Docket Numbers: ER06-1383-000.

Applicants: ISO New England Inc.; Northeast Utilities Service Company; The Connecticut Light and Power Company; Western Massachusetts Electric Company, Holyoke Power and Electric Company.

Description: ISO New England Inc. and Northeast Utilities Service Co on behalf of The Connecticut Light and Power Co. et al. submit 15 interconnection agreements.

Filed Date: 08/18/2006.

Accession Number: 20060822-0130.

Comment Date: 5 p.m. Eastern Time on Friday, September 08, 2006.

Docket Numbers: ER06-1384-000.

Applicants: Entergy-Koch Trading, LP.

Description: Entergy-Koch Trading LP submits a Notice of Cancellation of FERC Electric Tariff, Original Volume No. 1.

Filed Date: 08/21/2006.

Accession Number: 20060823-0014.

Comment Date: 5 p.m. Eastern Time on Monday, September 11, 2006.

Docket Numbers: ER06-1385-000.

Applicants: Niagara Mohawk Power Corporation.

Description: Niagara Mohawk Power Corp dba National Grid submits Original Service Agreement No. 919 with the County of Monroe.

Filed Date: 08/21/2006.

Accession Number: 20060823-0010.

Comment Date: 5 p.m. Eastern Time on Monday, September 11, 2006.

Docket Numbers: ER06-1386-000.

Applicants: FirstEnergy Generation Corporation.

Description: FirstEnergy Generation Corp submits a revised Genco Power Supply Agreement with FirstEnergy Solutions Corp, effective 1/1/06.

Filed Date: 08/18/2006.

Accession Number: 20060823-0025.

Comment Date: 5 p.m. Eastern Time on Friday, September 08, 2006.

Docket Numbers: ER06-1387-000.

Applicants: FirstEnergy Service Company.

Description: FirstEnergy Service Company submits a revised Mansfield Power Supply Agreement with Toledo Edison Co et al, effective 1/1/06.

Filed Date: 08/18/2006.

Accession Number: 20060823-0028.

Comment Date: 5 p.m. Eastern Time on Friday, September 08, 2006.

Docket Numbers: ER06-1388-000.

Applicants: FirstEnergy Nuclear Generation Corp.

Description: FirstEnergy Nuclear Generation Corp submits a revised Nuclear Power Supply Agreement to become effective 1/1/06.

Filed Date: 08/18/2006.

Accession Number: 20060823-0026.

Comment Date: 5 p.m. Eastern Time on Friday, September 08, 2006.

Docket Numbers: ER06-1389-000.

Applicants: FirstEnergy Service Company.

Description: First Energy Service Co submits Nuclear Sale/Leaseback Power Supply Agreement of Ohio Edison Co and the Toledo Edison Company.

Filed Date: 08/18/2006.

Accession Number: 20060823-0022.

Comment Date: 5 p.m. Eastern Time on Friday, September 08, 2006.

Docket Numbers: ER06-1390-000.

Applicants: Oklahoma Gas and Electric Company.

Description: Oklahoma Gas and Electric Co submits a Notice of Cancellation of its Rate Schedule FERC 142, Amended and Restated Line Lease Agreement with Oklahoma Municipal Power Authority.

Filed Date: 08/21/2006.

Accession Number: 20060823-0050.

Comment Date: 5 p.m. Eastern Time on Monday, September 11, 2006.

Take notice that the Commission received the following public utility holding company filings:

Docket Numbers: PH06-105-000.

Applicants: El Paso Corporation.

Description: El Paso Corporation submits it notice of Exemption pursuant to sections 366.3(b) and 366.4(b)(1) of PUHCA of 2005.

Filed Date: 08/18/2006.

Accession Number: 20060823-0011.

Comment Date: 5 p.m. Eastern Time on Friday, September 08, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-14396 Filed 8-29-06; 8:45 am]

BILLING CODE 6717-01-P